DEPARTMENT OF COMMERCE

International Trade Administration

Executive-Led Trade Mission to South Africa and Zambia

AGENCY: International Trade Administration, Department of Commerce.

ACTION: Notice.

SUMMARY: The United States Department of Commerce, International Trade Administration, U.S. and Foreign Commercial Service is amending the Notice published at 77 FR 31574, May 29, 2012, regarding the Executive-Led Trade Mission to South Africa and Zambia scheduled for November 26-30, 2012, to revise the dates of the application deadline from October 5, 2012 to the new deadline of October 12, 2012.

SUPPLEMENTARY INFORMATION: Amendments to Revise the Dates and Provide for Selection of Applicants on a Rolling Basis:

Background

Recruitment for this Mission began in May 2012. Due to summer holidays, it has been determined that additional time is needed to allow for additional recruitment and marketing in support of the mission. Applications will now be accepted through October 12, 2012 (and after that date if space remains and scheduling constraints permit), interested U.S. agriculture, mining, transportation, water, energy and infrastructure firms and trade organizations which have not already submitted an application are encouraged to do so.

Amendments

For the reasons stated above, the Timeframe for Recruitment and Applications section of the Notice of the Executive-Led Trade Mission to South Africa and Zambia. Recruitment for this mission will conclude no later than September 21, 2012. The U.S. Department of Commerce will review applications and make selection decisions on a rolling basis beginning August 5, 2012. We will inform all applicants of selection decisions no later than October 26, 2012. Applications received after the October 12, 2012 deadline will be considered only if space and scheduling constraints permit.

FOR FURTHER INFORMATION CONTACT: Frank Spector, Office of Domestic Operations, Trade Promotion Programs, Phone: 202-482-2054; Fax: 202-482-9000, Email: Frank.Spector@trade.gov.

Frank Spector,
Senior International Trade Specialist.

[FR Doc. 2012-24555 Filed 10-4-12; 8:45 am]

BILLING CODE 3510-FP-P